CORPORATION FOR NATIONAL AND COMMUNITY SERVICE

Privacy Act of 1974; System of Records

AGENCY: Corporation for National and Community Service.

ACTION: Rescindment of a system of records notice.

SUMMARY: The Corporation for National and Community Service (CNCS) is rescinding a system of records named Employee/Member Occupational Injury/Illness Reports and Claim Files—Corporation-6. The system of records was used to manage information about CNCS staff and full-time volunteers who filed workers' compensation claims under the Federal Employees' Compensation Act (FECA).

DATES: You may submit comments until June 15, 2020. This system of records notice (SORN) will be rescinded June 15, 2020 unless CNCS receives any timely comments which would result in a contrary determination.

ADDRESSES: You may submit comments, identified by system name and number, to CNCS via any of the following methods:

1. Electronically through regulations.gov.

Once you access regulations.gov, locate the web page for this SORN by searching for Employee/Member Occupational Injury/Illness Reports and Claim Files—Corporation-6. If you upload any files, please make sure they include your first name, last name, and the name of the SORN being rescinded.

2. By email at privacy@cns.gov.

3. By mail: Corporation for National and Community Service, Attn: Chief Privacy Officer, OIT, 250 E Street SW, Washington, DC 20525.

4. By hand delivery or courier to CNCS at the address for mail between 9:00 a.m. and 4:00 p.m. Eastern Standard Time, Monday through Friday, except for Federal holidays.

Please note that all submissions received may be posted without change to regulations.gov, including any personal information.

FOR FURTHER INFORMATION CONTACT: Aaron Goldstein, (202) 606-3237, or by email at AGoldstein@cns.gov. Please include the system of records' name and number.

SUPPLEMENTARY INFORMATION: The U.S. Department of Labor (DOL) Office of Workers' Compensation Programs administers the Federal workers' compensation program established by FECA. However, each agency must complete certain tasks when a claim is filed against that agency. CNCS previously established and maintained Employee/Member Occupational Injury/Illness Reports and Claim Files—Corporation-6 to manage the records that CNCS collected to complete those tasks. After DOL published a government-wide SORN titled DOL/GOVT-1, Office of Workers' Compensation Programs, Federal Employees' Compensation Act File (81 FR 25765, 25776, April 29, 2016), CNCS began using that SORN to handle the records. This makes Employee/Member Occupational Injury/Illness Reports and Claim Files—Corporation-6 redundant, so CNCS is rescinding it.

SYSTEM NAME AND NUMBER:

Employee/Member Occupational Injury/Illness Reports and Claim Files—Corporation-6.

HISTORY:

67 FR 4395, 4402, January 30, 2002.

Dated: May 12, 2020.
Ndiogou Cisse,
Senior Agency Official for Privacy and Chief Information Officer.

[FR Doc. 2020-10480 Filed 5-14-20; 8:45 am]

BILLING CODE 6050-28-P